DEPARTMENT OF HOMELAND SECURITY

Coast Guard

33 CFR Parts 126, 127, 154, and 155

46 CFR Parts 32, 34, 39, 54, 56, 76, 95, 108, 153, 160, 162, and 193

[Docket No. USCG-2012-0866]

RIN 1625-AB98

Updates to Standards Incorporated by Reference; Reapproved ASTM Standards; Technical Amendment

AGENCY: Coast Guard, DHS.

ACTION: Final rule.

SUMMARY: Many of the Coast Guard's regulations incorporate by reference consensus standards that are developed by organizations other than the Coast Guard. This final rule updates references to standards developed by ASTM International, that have been reapproved, without change, since their incorporation into Coast Guard regulation. This rule does not address standards that have changed substantively, and it will not have any substantive impact on the regulated public.

DATES: This rule is effective March 29, 2013. The incorporation by reference of certain publications listed in the rule is approved by the Director of the Federal Register on March 29, 2013.

ADDRESSES: Documents mentioned in this preamble as being available in the docket are part of docket USCG-2012-0866 and are available for inspection or copying at the Docket Management Facility (M-30), U.S. Department of Transportation, West Building Ground Floor, Room W12-140, 1200 New Jersey Avenue SE., Washington, DC 20590, between 9 a.m. and 5 p.m., Monday through Friday, except Federal holidays. You may also find this docket on the Internet by going to http://www.regulations.gov, inserting USCG-2012-0866 in the “Keyword” box, and then clicking “Search.”

Viewing incorporation by reference material. You may inspect the material incorporated by reference at the U.S. Coast Guard Headquarters, Room 1304, 2100 2nd Street SW., Washington, DC 20593 between 9 a.m. and 2 p.m., Monday through Friday, except Federal holidays. The telephone number is 202-372-1494. Copies of the material are available as indicated in the “Incorporation by Reference” section of this preamble.

FOR FURTHER INFORMATION CONTACT: If you have questions on this rule, call or email Mr. Roger K. Butturini, PE, U.S. Coast Guard Office of Standards Evaluation and Development; telephone 202-372-1494, email Roger.K.Butturini@uscg.mil. If you have questions on viewing the docket, call Ms. Renee V. Wright, Program Manager, Docket Operations, telephone 202-366-9826.

SUPPLEMENTARY INFORMATION:

Table of Contents for Preamble

I. Abbreviations

II. Regulatory History

III. Basis and Purpose

IV. Background

A. History of Incorporation by Reference

B. Reapproved Standards

V. Discussion of Changes

A. Incorporation of Reapproved Standards

B. Reformatting Involving Standards Other Than Reapproved ASTM Standards

C. Removal of 33 CFR 155.140(c)(3)

VI. Incorporation by Reference

VII. Regulatory Analyses

A. Regulatory Planning and Review

B. Small Entities

C. Assistance for Small Entities

D. Collection of Information

E. Federalism

F. Unfunded Mandates Reform Act

G. Taking of Private Property

H. Civil Justice Reform

I. Protection of Children

J. Indian Tribal Governments

K. Energy Effects

L. Technical Standards

M. Environment

I. Abbreviations

ASTM ASTM International

CFR Code of Federal Regulations

NTTAA National Technology Transfer and Advancement Act

U.S.C. United States Code

II. Regulatory History

The Coast Guard is issuing this final rule without prior notice and opportunity to comment, pursuant to section 4(a) of the Administrative Procedure Act (5 U.S.C. 553(b)). This provision authorizes an agency to issue a rule without prior notice and opportunity to comment when the agency, for good cause, finds that those procedures are “impracticable, unnecessary, or contrary to the public interest.” As discussed in more detail in this final rule, the industry standards adopted in this rule are merely reapproved editions of the previously incorporated standards. Reapproving a standard is a maintenance activity that confirms to the reader that the standard in question is not outdated or superseded as of the year of reapproval. This rule does not change any substantive regulatory requirements or pose any anticipated costs to the public, and will have no substantive effect on the public. Because the revisions implemented by this rule are all non-substantive changes without effect on the public, the Coast Guard finds that notice and public comment on the changes is unnecessary, and that good cause therefore exists under 5 U.S.C. 553(b)(B) for forgoing notice and comment procedures.

III. Basis and Purpose

The purpose of this rule is to update references to incorporated industry standards that have been reapproved, without change, by the standards organization that developed them. In this rule, we focus on standards developed by ASTM International (ASTM). We also are standardizing usage of ASTM's name, which was formerly the American Society for Testing and Materials, updating the listed contact information for publishers, and reformatting certain sections for ease of use.

In updating our references, we ensure that the publications we have incorporated by reference are reasonably available to the public as required by 1 CFR part 51. The Coast Guard's authority to revise its regulations is outlined in 33 CFR 1.05-1, as well as in the authority citations for each part of the Code of Federal Regulations (CFR) amended by this rule. Incorporation by reference is governed by 5 U.S.C. 552(a), 15 U.S.C. 272 note, and 1 CFR part 51.

IV. Background

A. History of Incorporation by Reference

Voluntary consensus standards are technical standards that are developed or adopted by voluntary consensus standards bodies. They may include specifications for materials, performance, design, or operation; test methods; sampling procedures; and related management systems practices. The Coast Guard has actively participated in the development of industry standards for the safety of marine equipment at the International Maritime Organization, the International Organization for Standardization, ASTM, the American Society of Mechanical Engineers, and other standards development bodies. The National Technology Transfer and Advancement Act (NTTAA) (15 U.S.C. 272 note) directs agencies to use voluntary consensus standards in their regulatory activities unless the agency provides Congress, through the Office of Management and Budget, with an explanation of why using these standards would be inconsistent with applicable law or would otherwise be impractical.

When appropriate, the Coast Guard incorporates industry standards, and particularly voluntary consensus standards, into its regulations. This process, known as incorporation by reference, gives the content of incorporated standards the same force as regulations published in the CFR. Incorporation by reference occurs as part of a rulemaking and is governed by specific rules, which are available at 1 CFR part 51. Under these rules the Coast Guard may only incorporate a specific edition of a standard, and that standard must be reasonably available to the class of persons affected by it. Because standards organizations revise and replace standards over time, the specific edition incorporated by the Coast Guard eventually may become outdated, unavailable, or both. This can lead to conflicts between domestic and international requirements, or between regulatory requirements and modern best practices. Therefore, the Coast Guard reviews its incorporations by reference and updates them if necessary.

B. Reapproved Standards

Standards organizations sometimes “reapprove” standards without modifying them. Reapproving a standard is a maintenance activity that confirms to the reader that the standard in question is not outdated or superseded as of the year of reapproval. For example, the standard known as ASTM A 575-96, “Standard Specification for Steel Bars, Carbon, Merchant Quality, M-Grades,” was originally published in 1996; when it was reapproved in 2002, it became known as ASTM A 575-96 (Reapproved 2002). It was reapproved again in 2007 as ASTM A 575-96 (Reapproved 2007). The substantive content remains the same as in the 1996 edition.

Because the Coast Guard must incorporate a specific edition, however, reapproval can cause the Coast Guard's incorporation to become outdated or confusing even if the substance of the incorporated standard is unchanged. For example, the Coast Guard incorporated ASTM A 575-96. Although the content of the standard has not changed since the Coast Guard incorporated it, the current version is ASTM A 575-96 (Reapproved 2007) and the incorporated ASTM A 575-96 has been superseded. In some cases, superseded standards are no longer readily available.

This rule updates regulatory references to certain incorporated ASTM standards that have been reapproved without change. We chose to focus on ASTM standards in this rule because we had recently verified that several such standards had been reapproved without change. The Coast Guard is aware that standards developed by other organizations may also have been reapproved and may also require updating, and that some of the Coast Guard's other incorporations may require updating for other reasons. The Coast Guard intends to address those incorporations in future publications in the Federal Register. To that end, we published a request for comments on November 30, 2012, (77 FR 71369) to solicit public input as to which incorporations by reference require updating.

V. Discussion of Changes

A. Incorporation of Reapproved Standards

The following table lists the title of each standard affected by this rule, the version previously incorporated, the more recent version to be incorporated, and the locations in the CFR where these references occur.

Table 1—List of ASTM Standards Affected by the Final Rule
Title of standard | Standard previously incorporated | Standard to be incorporated | Where incorporated: CFR title | Where incorporated: CFR section(s)
Standard Specification for Welded Joints for Shipboard Piping Systems | F722-82 (1993) | F722-82 (Reapproved 2008) | 33 | 154.106
Standard Specification for International Shore Connections for Marine Fire Applications | F1121-87 (1993) | F1121-87 (Reapproved 2010) | 33 46 | 126.5, 127.003 34.01-15, 76.01-2, 95.01-2, 108.101, 193.01-3
Standard Specification for Pipe, Steel, Electric-Fusion (Arc)—Welded (Sizes NPS 16 and Over) | A134-96 | A134-96 (Reapproved 2012) | 46 | 56.01-2
Standard Specification for Seamless Cold-Drawn Low-Carbon Steel Heat-Exchanger and Condenser Tubes | A179/A179M-90a (1996) | A179/A179M-90a (Reapproved 2012) | 46 | 56.01-2
Standard Specification for Pressure Vessel Plates, Alloy Steel, Nickel | A203/A203M-97 | A203/A203M-97 (Reapproved 2007)ε1 | 46 | 54.01-1
Standard Specification for Electric-Resistance-Welded Carbon Steel Heat-Exchanger and Condenser Tubes | A214/A214M-96 | A214/A214M-96 (Reapproved 2012) | 46 | 56.01-2
Standard Specification for Ductile Iron Castings | A536-84 (1993) | A536-84 (Reapproved 2009) | 46 | 56.01-2
Standard Specification for Steel Bars, Carbon, Merchant Quality, M-Grades | A575-96 | A575-96 (Reapproved 2007) | 46 | 56.01-2
Standard Specification for Steel Bars, Carbon, Hot-Wrought, Special Quality | A576-90b (1995) | A576-90b (Reapproved 2012) | 46 | 56.01-2
Standard Test Method for Determining Gas Permeability Characteristics of Plastic Film and Sheeting | D1434-82 (1988) | D1434-82 (Reapproved 2009)ε1 | 46 | 160.077-5, 160.176-4
Standard Specification for Wrought Carbon Steel Sleeve-Type Pipe Couplings | F682-82a | F682-82a (Reapproved 2008) | 46 | 56.01-2
Standard Specification for Entrainment Separators for Use in Marine Piping Applications | F1006-86 (1992) | F1006-86 (Reapproved 2008) | 46 | 56.01-2
Standard Specification for Pipeline Expansion Joints of the Packed Slip Type for Marine Application | F1007-86 (1996) | F1007-86 (Reapproved 2007) | 46 | 56.01-2
Standard Specification for Line-Blind Valves for Marine Applications | F1020-86 (1996) | F1020-86 (Reapproved 2011) | 46 | 56.01-2
Standard Specification for Circular Metallic Bellows Type Expansion Joints for Piping Applications | F1120-87 (1993) | F1120-87 (Reapproved 2010) | 46 | 56.01-2
Standard Specification for Non-Metallic Expansion Joints | F1123-87 (1993) | F1123-87 (Reapproved 2010) | 46 | 56.01-2
Standard Specification for Steam Traps and Drains | F1139-88 (1993) | F1139-88 (Reapproved 2010) | 46 | 56.01-2
Standard Specification for Fuel Oil Meters of the Volumetric Positive Displacement Type | F1172-88 (1993) | F1172-88 (Reapproved 2010) | 46 | 56.01-2
Standard Specification for Cast (All Temperatures and Pressures) and Welded Pipe Line Strainers (150 psig and 150 °F Maximum) | F1199-88 (1993) | F1199-88 (Reapproved 2010) | 46 | 56.01-2
Standard Specification for Fabricated (Welded) Pipe Line Strainers (Above 150 psig and 150 °F) | F1200-88 (1993) | F1200-88 (Reapproved 2010) | 46 | 56.01-2
Standard Specification for Fluid Conditioner Fittings in Piping Applications Above 0 °F | F1201-88 (1993) | F1201-88 (Reapproved 2010) | 46 | 56.01-2
Standard Specification for Spill Valves for Use in Marine Tank Liquid Overpressure Protections Applications | F1271-90 (1995) | F1271-90 (Reapproved 2012) | 46 | 39.10-5, 153.4
Standard Specification for Tank Vent Flame Arresters | F1273-91 (1997) | F1273-91 (Reapproved 2007) | 46 | 32.01-1
Standard Specification for Fire Hose Nozzles | F1546/F1546 M-96 | F1546/F1546M-96 (Reapproved 2012) | 46 | 162.027-1

All of the incorporated standards in Table 1 have been reapproved without change. For that reason, incorporating the most recent versions does not change the substantive regulatory requirements and will have no substantive impact on the regulated public.

The Coast Guard is also standardizing usage of the name “ASTM International,” formerly known as the American Society for Testing and Materials, as well as reformatting the reapproved document titles to match the capitalization and punctuation used in the most current publications. These changes are administrative in nature, and will not affect the regulated public in a substantive manner.

B. Reformatting Involving Standards Other Than Reapproved ASTM Standards

Some of the reapproved ASTM standards appear in older sections of the CFR that did not include paragraph designations. The lack of paragraph designations makes reading and cross-referencing these sections more difficult. This rule reformats those sections using the Office of the Federal Register's preferred paragraph designation format. The reformatted sections are 46 CFR 32.01-1, 76.01-2, 153.4, 160.077-5, 160.176-4, and 162.027-1. This rule also updates publisher contact information in these sections when appropriate.

Although these reformatted sections contain incorporated standards other than reapproved ASTM standards, this rule does not update those references, incorporate newer versions, or make any other substantive change to those references. With the exception of the reapproved ASTM standards discussed above, the content of the reformatted sections remains the same as it was prior to this rule. Suggestions for updates to these sections may be submitted to the Coast Guard using the contact information in ADDRESSES.

C. Removal of 33 CFR 155.140(c)(3)

In developing this rule, the Coast Guard became aware that 33 CFR 155.140(c)(3) indicated standard ASTM F 722-82 was incorporated by reference in Appendices A and B of 33 CFR part 155. Appendices A and B do not contain any reference to ASTM F 722-82, however, and subsequent research determined this reference to be a typographical error. This rule removes the reference to ASTM F 722-82 from § 155.140. As there is no regulatory requirement in Part 155 associated with the standard, the removal can have no substantive impact on the public.

VI. Incorporation by Reference

The Director of the Federal Register has approved the material in 33 CFR 126.5, 127.003, and 154.106; and 46 CFR 32.01-1, 34.01-15, 39.10-5, 54.01-1, 56.01-2, 76.01-2, 95.01-2, 108.101, 153.4, 160.077-5, 160.176-4, 162.027-1, and 193.01-3 for incorporation by reference under 5 U.S.C. 552 and 1 CFR part 51. Copies of the material are available from the sources listed in these sections.

VII. Regulatory Analyses

We developed this rule after considering numerous statutes and executive orders related to rulemaking. Below we summarize our analyses based on these statutes or executive orders.

A. Regulatory Planning and Review

Executive Orders 12866 (“Regulatory Planning and Review”) and 13563 (“Improving Regulation and Regulatory Review”) direct agencies to assess the costs and benefits of available regulatory alternatives and, if regulation is necessary, to select regulatory approaches that maximize net benefits (including potential economic, environmental, public health and safety effects, distributive impacts, and equity). Executive Order 13563 emphasizes the importance of quantifying both costs and benefits, of reducing costs, of harmonizing rules, and of promoting flexibility. This final rule has not been designated a “significant regulatory action” under section 3(f) of Executive Order 12866, Regulatory Planning and Review, and does not require an assessment of potential costs and benefits under section 6(a)(3) of that Order. The Office of Management and Budget has not reviewed it under that Order.

This final rule makes non-substantive changes throughout Titles 33 and 46 of the CFR. As discussed in more detail in Section V (Discussion of Changes) of this preamble, the industry standards adopted in this rule are merely reapproved editions of the previously incorporated standards. Reapproving a standard is a maintenance activity that confirms to the reader that the standard in question is not outdated or superseded as of the year of reapproval. Therefore, this rule does not change any substantive regulatory requirements and will have no substantive effect on the public. As a result, we expect no additional cost to the industry. No additional labor or resources would be required by the regulated public.

We expect this final rule to be beneficial to the public and to the maritime industry because it will make the Coast Guard's references to these standards consistent with the current standards available for use by industry and will ensure that the publications we have incorporated by reference are reasonably available to the public.

B. Small Entities

This rule is not preceded by a notice of proposed rulemaking and, therefore, is exempt from the requirements of the Regulatory Flexibility Act (5 U.S.C. 601-612). The Regulatory Flexibility Act does not apply when the agency for good cause finds that notice and public procedure thereon are impracticable, unnecessary, or contrary to the public interest.

C. Assistance for Small Entities

Under section 213(a) of the Small Business Regulatory Enforcement Fairness Act of 1996 (Public Law 104-121), we want to assist small entities in understanding the rule so that they can better evaluate its effects on them and participate in the rulemaking. The Coast Guard will not retaliate against small entities that question or complain about this rule or any policy or action of the Coast Guard.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247).

D. Collection of Information

This rule calls for no new collection of information under the Paperwork Reduction Act of 1995 (44 U.S.C. 3501-3520).

E. Federalism

A rule has implications for federalism under Executive Order 13132, Federalism, if the rule has a substantial direct effect on the States, on the relationship between the national government and the States, or on the distribution of power and responsibilities among the various levels of government. We have analyzed this rule under that Order and have determined that it does not have implications for federalism.

F. Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 (adjusted for inflation) or more in any one year. Though this rule will not result in such an expenditure, we do discuss the effects of this rule elsewhere in this preamble.

G. Taking of Private Property

This rule will not cause a taking of private property or otherwise have taking implications under Executive Order 12630, Governmental Actions and Interference with Constitutionally Protected Property Rights.

H. Civil Justice Reform

This rule meets applicable standards in sections 3(a) and 3(b)(2) of Executive Order 12988, Civil Justice Reform, to minimize litigation, eliminate ambiguity, and reduce burden.

I. Protection of Children

We have analyzed this rule under Executive Order 13045, Protection of Children from Environmental Health Risks and Safety Risks. This rule is not an economically significant rule and does not create an environmental risk to health or risk to safety that may disproportionately affect children.

J. Indian Tribal Governments

This rule does not have tribal implications under Executive Order 13175, Consultation and Coordination with Indian Tribal Governments, because it does not have a substantial direct effect on one or more Indian tribes, on the relationship between the Federal Government and Indian tribes, or on the distribution of power and responsibilities between the Federal Government and Indian tribes.

K. Energy Effects

We have analyzed this rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. The Administrator of the Office of Information and Regulatory Affairs has not designated it as a significant energy action. Therefore, it does not require a Statement of Energy Effects under Executive Order 13211.

L. Technical Standards

The NTTAA (15 U.S.C. 272 note) directs agencies to use voluntary consensus standards in their regulatory activities unless the agency provides Congress, through the Office of Management and Budget, with an explanation of why using these standards would be inconsistent with applicable law or otherwise impractical. Voluntary consensus standards are technical standards (e.g., specifications of materials, performance, design, or operation; test methods; sampling procedures; and related management systems practices) that are developed or adopted by voluntary consensus standards bodies.

This rule uses the following voluntary consensus standards:

Table 2—List of ASTM Voluntary Consensus Standards
ID No. of standard | Title of standard
A134-96 (Reapproved 2012) | Standard Specification for Pipe, Steel, Electric-Fusion (Arc)-Welded (Sizes NPS 16 and Over).
A179/A179M-90a (Reapproved 2012) | Standard Specification for Seamless Cold-Drawn Low-Carbon Steel Heat-Exchanger and Condenser Tubes.
A 203/A 203M-97 (Reapproved 2007)ε1 | Standard Specification for Pressure Vessel Plates, Alloy Steel, Nickel.
A214/A214M-96 (Reapproved 2012) | Standard Specification for Electric-Resistance-Welded Carbon Steel Heat-Exchanger and Condenser Tubes.
A 536-84 (Reapproved 2009) | Standard Specification for Ductile Iron Castings.
A 575-96 (Reapproved 2007) | Standard Specification for Steel Bars, Carbon, Merchant Quality, M-Grades.
A576-90b (Reapproved 2012) | Standard Specification for Steel Bars, Carbon, Hot-Wrought, Special Quality.
D1434-82 (Reapproved 2009)ε1 | Standard Test Method for Determining Gas Permeability Characteristics of Plastic Film and Sheeting.
F682-82a (Reapproved 2008) | Standard Specification for Wrought Carbon Steel Sleeve-Type Pipe Couplings.
F722-82 (Reapproved 2008) | Standard Specification for Welded Joints for Shipboard Piping Systems.
F1006-86 (Reapproved 2008) | Standard Specification for Entrainment Separators for Use in Marine Piping Applications.
F1007-86 (Reapproved 2007) | Standard Specification for Pipeline Expansion Joints of the Packed Slip Type for Marine Application.
F1020-86 (Reapproved 2011) | Standard Specification for Line-Blind Valves for Marine Applications.
F1120-87 (Reapproved 2010) | Standard Specification for Circular Metallic Bellows Type Expansion Joints for Piping Applications.
F1121-87 (Reapproved 2010) | Standard Specification for International Shore Connections for Marine Fire Applications.
F1123-87 (Reapproved 2010) | Standard Specification for Non-Metallic Expansion Joints.
F1139-88 (Reapproved 2010) | Standard Specification for Steam Traps and Drains.
F1172-88 (Reapproved 2010) | Standard Specification for Fuel Oil Meters of the Volumetric Positive Displacement Type.
F1199-88 (Reapproved 2010) | Standard Specification for Cast (All Temperatures and Pressures) and Welded Pipe Line Strainers (150 psig and 150° F Maximum).
F1200-88 (Reapproved 2010) | Standard Specification for Fabricated (Welded) Pipe Line Strainers (Above 150 psig and 150° F).
F1201-88 (Reapproved 2010) | Standard Specification for Fluid Conditioner Fittings in Piping Applications Above 0° F.
F1271-90 (Reapproved 2012) | Standard Specification for Spill Valves for Use in Marine Tank Liquid Overpressure Protections Applications.
F1273-91 (Reapproved 2007) | Standard Specification for Tank Vent Flame Arresters.
F1546/F1546M-96 (Reapproved 2012) | Standard Specification for Fire Hose Nozzles.

M. Environment

We have analyzed this rule under Department of Homeland Security Management Directive 023-01 and Commandant Instruction M16475.lD, which guide the Coast Guard in complying with the National Environmental Policy Act of 1969 (NEPA)(42 U.S.C. 4321-4370f), and have concluded that this action is one of a category of actions that do not individually or cumulatively have a significant effect on the human environment. This rule is categorically excluded under section 2.B.2, figure 2-1, paragraph (34)(a) of the Instruction. This rule falls under the category of editorial or procedural regulations since it involves the adoption of voluntary consensus standards already in effect. An environmental analysis checklist and a categorical exclusion determination are available in the docket where indicated under ADDRESSES.

List of Subjects

33 CFR Part 126

Explosives, Harbors, Hazardous substances, Incorporation by reference, Reporting and recordkeeping requirements.

33 CFR Part 127

Fire prevention, Harbors, Hazardous substances, Incorporation by reference, Natural gas, Reporting and recordkeeping requirements, Security measures.

33 CFR Part 154

Alaska, Fire prevention, Hazardous substances, Incorporation by reference, Oil pollution, Reporting and recordkeeping requirements.

33 CFR Part 155

Alaska, Hazardous substances, Incorporation by reference, Oil pollution, Reporting and recordkeeping requirements.

46 CFR Part 32

Cargo vessels, Fire prevention, Incorporation by reference, Marine safety, Navigation (water), Occupational safety and health, Reporting and recordkeeping requirements, Seamen.

46 CFR Part 34

Cargo vessels, Fire prevention, Incorporation by reference, Marine safety.

46 CFR Part 39

Cargo vessels, Fire prevention, Hazardous materials transportation, Incorporation by reference, Marine safety, Occupational safety and health, Reporting and recordkeeping requirements.

46 CFR Parts 54 and 56

Incorporation by reference, Reporting and recordkeeping requirements, Vessels.

46 CFR Part 76

Fire prevention, Incorporation by reference, Marine safety, Passenger vessels.

46 CFR Part 95

Cargo vessels, Fire prevention, Incorporation by reference, Marine safety.

46 CFR Part 108

Fire prevention, Incorporation by reference, Marine safety, Occupational safety and health, Oil and gas exploration, Vessels.

46 CFR Part 153

Administrative practice and procedure, Cargo vessels, Hazardous materials transportation, Incorporation by reference, Marine safety, Reporting and recordkeeping requirements, Water pollution control.

46 CFR Part 160

Incorporation by reference, Marine safety, Reporting and recordkeeping requirements.

46 CFR Part 162

Fire prevention, Incorporation by reference, Marine safety, Oil pollution, Reporting and recordkeeping requirements.

46 CFR Part 193

Fire prevention, Incorporation by reference, Marine safety, Oceanographic research vessels.

For the reasons discussed in the preamble, the Coast Guard amends 33 CFR parts 126, 127, 154, and 155, and 46 CFR parts 32, 34, 39, 54, 56, 76, 95, 108, 153, 160, 162, and 193 as follows:

Title 33

PART 126—HANDLING OF DANGEROUS CARGO AT WATERFRONT FACILITIES

1. The authority citation for part 126 continues to read as follows:

Authority: 33 U.S.C. 1231; 49 CFR 1.46.

2. In § 126.5, in the table in paragraph (b), revise the first two entries to read as follows:

§ 126.5 Incorporation by reference: Where can I get a copy of the publications mentioned in this part?

* * * * *

(b) * * *

ASTM International, 100 Barr Harbor Drive, P.O. Box C700, West Conshohocken, PA 19428-2959, 877-909-2786, http://www.astm.org.
ASTM F1121-87 (Reapproved 2010), Standard Specification for International Shore Connections for Marine Fire Applications, (approved March 1, 2010) | 126.15
* * * * * * *

PART 127—WATERFRONT FACILITIES HANDLING LIQUEFIED NATURAL GAS AND LIQUEFIED HAZARDOUS GAS

3. The authority citation for part 127 continues to read as follows:

Authority: 33 U.S.C. 1231; 46 U.S.C. Chapter 701; Department of Homeland Security Delegation No. 0170.1.

4. In § 127.003, in the table in paragraph (b), revise the entries for the “American Society for Testing and Materials (ASTM)” to read as follows:

§ 127.003 Incorporation by reference.

* * * * *

(b) * * *

* * * * * * *
ASTM International
100 Barr Harbor Drive, P.O. Box C700, West Conshohocken, PA 19428-2959, 877-909-2786, http://www.astm.org.
ASTM F1121-87 (Reapproved 2010), Standard Specification for International Shore Connections for Marine Fire Applications, (approved March 1, 2010) | 127.611; 127.1511
* * * * * * *

PART 154—FACILITIES TRANSFERRING OIL OR HAZARDOUS MATERIAL IN BULK

5. The authority citation for part 154 continues to read as follows:

Authority: 33 U.S.C. 1231, 1321(j)(1)(C), (j)(5), (j)(6), and (m)(2); sec. 2, E.O. 12777, 56 FR 54757; Department of Homeland Security Delegation No. 0170.1. Subpart F is also issued under 33 U.S.C. 2735.

6. In § 154.106, revise paragraph (d) introductory text and paragraph (d)(3) to read as follows:

§ 154.106 Incorporation by reference: Where can I get a copy of the publications incorporated by reference in this part?

* * * * *

(d) ASTM International, 100 Barr Harbor Drive, P.O. Box C700, West Conshohocken, PA 19428-2959, 877-909-2786, http://www.astm.org:

* * * * *

(3) ASTM F722-82 (Reapproved 2008), Standard Specification for Welded Joints for Shipboard Piping Systems, (approved November 1, 2008), incorporation by reference approved for Appendix A and Appendix B.

* * * * *

PART 155—OIL OR HAZARDOUS MATERIAL POLLUTION PREVENTION REGULATIONS FOR VESSELS

7. The authority citation for part 155 continues to read as follows:

Authority: 33 U.S.C. 1231, 1321(j); 46 U.S.C. 3703; E.O. 12777, 56 FR 54757, 3 CFR, 1991 Comp., p. 351; Department of Homeland Security Delegation No. 0170.1. Sections 155.100 through 155.130, 150.350 through 155.400, 155.430, 155.440, 155.470, 155.1030(j) and (k), and 155.1065(g) are also issued under 33 U.S.C. 1903(b). Section 155.490 also issued under section 4110(b) of Pub. L. 101-380. Sections 155.1110 through 155.1150 also issued under 33 U.S.C. 2735.

8. In § 155.140, revise paragraph (c) introductory text and remove and reserve paragraph (c)(3) to read as follows:

§ 155.140 Incorporation by reference.

* * * * *

(c) ASTM International, 100 Barr Harbor Drive, P.O. Box C700, West Conshohocken, PA 19428-2959, 877-909-2786, http://www.astm.org:

* * * * *

(3) [Reserved].

* * * * *

Title 46

PART 32—SPECIAL EQUIPMENT, MACHINERY, AND HULL REQUIREMENTS

9. The authority citation for part 32 continues to read as follows:

Authority: 46 U.S.C. 2103, 3306, 3703, 3719; E.O. 12234, 45 FR 58801, 3 CFR, 1980 Comp., p. 277; Department of Homeland Security Delegation No. 0170.1; Subpart 32.59 also issued under the authority of Sec. 4109, Pub. L. 101-380, 104 Stat. 515.

10. Amend § 32.01-1 by revising paragraph (b) and adding paragraph (c) to read as follows:

§ 32.01-1 Incorporation by reference.

* * * * *

(b) American Bureau of Shipping (ABS), ABS Plaza, 16855 Northchase Drive, Houston, TX 77060, 281-877-5800, http://www.eagle.org.

(1) Rules for Building and Classing Steel Vessels, 1989, incorporation by reference approved for §§ 32.15-15; 32.60-10; 32.65-40.

(2) [Reserved]

(c) ASTM International, 100 Barr Harbor Drive, P.O. Box C700, West Conshohocken, PA 19428-2959, 877-909-2786, http://www.astm.org.

(1) ASTM D4986-98, Standard Test Method for Horizontal Burning Characteristics of Cellular Polymeric Materials, incorporation by reference approved for § 32.57-10.

(2) ASTM F1273-91 (Reapproved 2007), Standard Specification for Tank Vent Flame Arresters (approved December 1, 2007), incorporation by reference approved for § 32.20-10.

PART 34—FIREFIGHTING EQUIPMENT

11. The authority citation for part 34 continues to read as follows:

Authority: 46 U.S.C. 3306, 3703; E.O. 12234, 45 FR 58801, 3 CFR, 1980 Comp., p. 277; Department of Homeland Security Delegation No. 0170.1.

12. In § 34.01-15, revise paragraph (b) introductory text and paragraph (b)(1) to read as follows:

§ 34.01-15 Incorporation by reference.

* * * * *

(b) ASTM International, 100 Barr Harbor Drive, P.O. Box C700, West Conshohocken, PA 19428-2959, 877-909-2786, http://www.astm.org.

(1) ASTM F1121-87 (Reapproved 2010), Standard Specification for International Shore Connections for Marine Fire Applications, (approved March 1, 2010), incorporation by reference approved for § 34.10-15 (“ASTM F 1121”).

* * * * *

PART 39—VAPOR CONTROL SYSTEMS

13. The authority citation for part 39 continues to read as follows:

Authority: 33 U.S.C. 1231; 46 U.S.C. 3306, 3703, 3715(b); 45 FR 58801, 3 CFR, 1980 Comp., p. 277; Department of Homeland Security Delegation No. 0170.1.

14. In § 39.10-5, revise the fifth and sixth entries in the table, in paragraph (b) to read as follows:

§ 39.10-5 Incorporation by reference—TB/ALL.

* * * * *

(b) * * *

* * * * * * *
ASTM International, 100 Barr Harbor Drive, P.O. Box C700, West Conshohocken, PA 19428-2959, 877-909-2786, http://www.astm.org.
ASTM F1271-90 (Reapproved 2012), Standard Specification for Spill Valves for Use in Marine Tank Liquid Overpressure Protections Applications, (approved May 1, 2012) | 39.20-9
* * * * * * *

PART 54—PRESSURE VESSELS

15. The authority citation for part 54 continues to read as follows:

Authority: 33 U.S.C. 1509; 43 U.S.C. 1333; 46 U.S.C. 3306, 3703; E.O. 12234, 45 FR 58801, 3 CFR, 1980 Comp., p. 277; Department of Homeland Security Delegation No. 0170.1.

16. In § 54.01-1, revise paragraph (c) introductory text and paragraph (c)(2) to read as follows:

§ 54.01-1 Incorporation by reference.

* * * * *

(c) ASTM International, 100 Barr Harbor Drive, P.O. Box C700, West Conshohocken, PA 19428-2959, 877-909-2786, http://www.astm.org:

* * * * *

(2) ASTM A 203/A 203M-97 (Reapproved 2007)ε1, Standard Specification for Pressure Vessel Plates, Alloy Steel, Nickel (“ASTM A 203”), (approved November 1, 2007), incorporation by reference approved for § 54.05-20;

* * * * *

PART 56—PIPING SYSTEMS AND APPURTENANCES

17. The authority citation for part 56 continues to read as follows:

Authority: 33 U.S.C. 1321(j), 1509; 43 U.S.C. 1333; 46 U.S.C. 3306, 3703; E.O. 12234, 45 FR 58801, 3 CFR, 1980 Comp., p. 277; E.O. 12777, 56 FR 54757, 3 CFR, 1991 Comp., p. 351; Department of Homeland Security Delegation No. 0170.1.

18. Amend § 56.01-2 as follows:

a. Redesignate paragraphs (e)(9) through (e)(82) as paragraphs (e)(10) through (e)(83), respectively;

b. Redesignate the second paragraph (e)(8) as paragraph (e)(9); and

c. Revise paragraph (e) introductory text, paragraph (e)(6), and newly redesignated paragraphs (e)(10), (e)(17), (e)(40) through (e)(42), (e)(69) through (e)(76), and (e)(78) through (e)(80) to read as follows:

§ 56.01-2 Incorporation by reference.

* * * * *

(e) ASTM International, 100 Barr Harbor Drive, P.O. Box C700, West Conshohocken, PA 19428-2959, 877-909-2786, http://www.astm.org:

* * * * *

(6) ASTM A134-96 (Reapproved 2012), Standard Specification for Pipe, Steel, Electric-Fusion (Arc)-Welded (Sizes NPS 16 and Over) (“ASTM A 134”), (approved March 1, 2012), incorporation by reference approved for § 56.60-1;

* * * * *

(10) ASTM A179/A179M-90a (Reapproved 2012), Standard Specification for Seamless Cold-Drawn Low-Carbon Steel Heat-Exchanger and Condenser Tubes (“ASTM A 179”), (approved March 1, 2012), incorporation by reference approved for § 56.60-1;

* * * * *

(17) ASTM A214/A214M-96 (Reapproved 2012), Standard Specification for Electric-Resistance-Welded Carbon Steel Heat-Exchanger and Condenser Tubes (“ASTM A 214”), (approved March 1, 2012), incorporation by reference approved for § 56.60-1;

* * * * *

(40) ASTM A 536-84 (Reapproved 2009), Standard Specification for Ductile Iron Castings (“ASTM A 536”), (approved May 1, 2009), incorporation by reference approved for § 56.60-1;

(41) ASTM A 575-96 (Reapproved 2007), Standard Specification for Steel Bars, Carbon, Merchant Quality, M-Grades (“ASTM A 575”), (approved September 1, 2005), incorporation by reference approved for § 56.60-2;

(42) ASTM A576-90b (Reapproved 2012), Standard Specification for Steel Bars, Carbon, Hot-Wrought, Special Quality (“ASTM A576”), (approved March 1, 2012), incorporation by reference approved for § 56.60-2;

* * * * *

(69) ASTM F682-82a (Reapproved 2008), Standard Specification for Wrought Carbon Steel Sleeve-Type Pipe Couplings (“ASTM F 682”), (approved November 1, 2008), incorporation by reference approved for § 56.60-1;

(70) ASTM F1006-86 (Reapproved 2008), Standard Specification for Entrainment Separators for Use in Marine Piping Applications (“ASTM F 1006”), (approved November 1, 2008), incorporation by reference approved for § 56.60-1;

(71) ASTM F1007-86 (Reapproved 2007), Standard Specification for Pipeline Expansion Joints of the Packed Slip Type for Marine Application (“ASTM F 1007”), (approved December 1, 2007), incorporation by reference approved for § 56.60-1;

(72) ASTM F1020-86 (Reapproved 2011), Standard Specification for Line-Blind Valves for Marine Applications (“ASTM F 1020”), (approved April 1, 2011), incorporation by reference approved for § 56.60-1;

(73) ASTM F1120-87 (Reapproved 2010), Standard Specification for Circular Metallic Bellows Type Expansion Joints for Piping Applications (“ASTM F 1120”), (approved May 1, 2010), incorporation by reference approved for § 56.60-1;

(74) ASTM F1123-87 (Reapproved 2010), Standard Specification for Non-Metallic Expansion Joints (“ASTM F 1123”), (approved March 1, 2010), incorporation by reference approved for § 56.60-1;

(75) ASTM F1139-88 (Reapproved 2010), Standard Specification for Steam Traps and Drains (“ASTM F 1139”), (approved March 1, 2010), incorporation by reference approved for § 56.60-1;

(76) ASTM F1172-88 (Reapproved 2010), Standard Specification for Fuel Oil Meters of the Volumetric Positive Displacement Type (“ASTM F 1172”), (approved March 1, 2010), incorporation by reference approved for § 56.60-1;

* * * * *

(78) ASTM F1199-88 (Reapproved 2010), Standard Specification for Cast (All Temperatures and Pressures) and Welded Pipe Line Strainers (150 psig and 150 °F Maximum) (“ASTM F 1199”), (approved March 1, 2010), incorporation by reference approved for § 56.60-1;

(79) ASTM F1200-88 (Reapproved 2010), Standard Specification for Fabricated (Welded) Pipe Line Strainers (Above 150 psig and 150 °F) (“ASTM F 1200”), (approved March 1, 2010), incorporation by reference approved for § 56.60-1;

(80) ASTM F1201-88 (Reapproved 2010), Standard Specification for Fluid Conditioner Fittings in Piping Applications above 0 °F (“ASTM F 1201”), (approved May 1, 2010), incorporation by reference approved for § 56.60-1;

* * * * *

PART 76—FIRE PROTECTION EQUIPMENT

19. The authority citation for part 76 continues to read as follows:

Authority: 46 U.S.C. 3306; E.O. 12234, 45 FR 58801, 3 CFR, 1980 Comp., p. 277; Department of Homeland Security Delegation No. 0170.1.

20. In § 76.01-2, revise paragraphs (b), (c), and (d) to read as follows:

§ 76.01-2 Incorporation by reference.

* * * * *

(b) ASTM International, 100 Barr Harbor Drive, P.O. Box C700, West Conshohocken, PA 19428-2959, 877-909-2786, http://www.astm.org.

(1) ASTM F1121-87 (Reapproved 2010), Standard Specification for International Shore Connections for Marine Fire Applications (“ASTM F 1121”), (approved March 1, 2010), incorporation by reference approved for § 76.10-10.

(2) [Reserved]

(c) National Fire Protection Association (NFPA), 1 Batterymarch Park, Quincy, MA 02169-7471, 617-770-3000, http://nfpa.org.

(1) NFPA 13-1996, Standard for the Installation of Sprinkler Systems (“NFPA 13”), incorporation by reference approved for §§ 76.25-1; 76.25-90.

(2) [Reserved]

(d) Underwriters Laboratories Inc. (UL), 12 Laboratory Drive, Research Triangle Park, NC 27709-3995, 919-549-1400, http://www.ul.com.

(1) UL 19 Standard for Safety, Lined Fire Hose and Hose Assemblies (“UL 19”) (2001), incorporation by reference approved for § 76.10-10.

(2) [Reserved]

PART 95—FIRE PROTECTION EQUIPMENT

21. The authority citation for part 95 continues to read as follows:

Authority: 46 U.S.C. 3306; E.O. 12234, 45 FR 58801, 3 CFR, 1980 Comp., p. 277; Department of Homeland Security Delegation No. 0170.1.

22. In § 95.01-2, revise paragraph (b) introductory text and paragraph (b)(1) to read as follows:

§ 95.01-2 Incorporation by reference.

* * * * *

(b) ASTM International, 100 Barr Harbor Drive, P.O. Box C700, West Conshohocken, PA 19428-2959, 877-909-2786, http://www.astm.org.

(1) ASTM F1121-87 (Reapproved 2010), Standard Specification for International Shore Connections for Marine Fire Applications, (approved March 1, 2010), incorporation by reference approved for § 95.10-10.

* * * * *

PART 108—DESIGN AND EQUIPMENT

23. The authority citation for part 108 continues to read as follows:

Authority: 43 U.S.C. 1333; 46 U.S.C. 3102, 3306; Department of Homeland Security Delegation No. 0170.1.

24. In § 108.101, in the table in paragraph (b), revise the first, second, and fifth entry to read as follows:

§ 108.101 Incorporation by reference.

* * * * *

(b) * * *

ASTM International
100 Barr Harbor Drive, P.O. Box C700, West Conshohocken, PA 19428-2959, 877-909-2786, http://www.astm.org.
* * * * * * *
ASTM F1121-87 (Reapproved 2010), Standard Specification for International Shore Connections for Marine Fire Applications, (approved March 1, 2010) | 108.427
* * * * * * *

PART 153—SHIPS CARRYING BULK LIQUID, LIQUEFIED GAS, OR COMPRESSED GAS HAZARDOUS MATERIALS

25. The authority citation for part 153 continues to read as follows:

Authority: 46 U.S.C. 3703; Department of Homeland Security Delegation No. 0170.1. Section 153.40 issued under 49 U.S.C. 5103. Sections 153.470 through 153.491, 153.1100 through 153.1132, and 153.1600 through 153.1608 also issued under 33 U.S.C. 1903 (b).

26. Amend § 153.4 by revising paragraph (b) and adding paragraph (c) as follows:

(b) American National Standards Institute (ANSI), 25 West 43rd Street, 4th Floor, New York, NY 10036, http://www.ansi.org.

(1) ANSI B16.5, Pipe Flanges and Flanged Fittings, 1988, incorporation by reference approved for § 153.940.

(2) ANSI B16.24, Bronze Pipe Flanges and Flanged Fittings, 1979, incorporation by reference approved for § 153.940.

(3) ANSI B16.31, Non-Ferrous Flanges, 1971, incorporation by reference approved for § 153.940.

(c) American Society for Testing and Materials (ASTM), 100 Barr Harbor Drive, West Conshohocken, PA 19428-2959, 877-909-2786, http://www.astm.org.

(1) ASTM F 1122-87 (1992), Standard Specification for Quick Disconnect Couplings, incorporation by reference approved for § 153.940.

(2) ASTM F1271-90 (Reapproved 2012), Standard Specification for Spill Valves for Use in Marine Tank Liquid Overpressure Protections Applications (approved May 1, 2012), incorporation by reference approved for § 153.365.

PART 160—LIFESAVING EQUIPMENT

27. The authority citation for part 160 continues to read as follows:

Authority: 46 U.S.C. 2103, 3306, 3703 and 4302; E.O. 12234, 45 FR 58801, 3 CFR, 1980 Comp., p. 277; 49 CFR 1.46.

28. Revise § 160.077-5 to read as follows:

§ 160.077-5 Incorporation by reference.

(a) Certain material is incorporated by reference into this part with the approval of the Director of the Federal Register in accordance with 5 U.S.C. 552(a). To enforce any edition other than that specified in paragraph (b) of this section, the Coast Guard must publish a notice of change in the Federal Register and make the material available to the public. All approved material is on file at the U.S. Coast Guard, Office of Design and Engineering Standards (CG-ENG), 2100 2nd Street SW., Stop 7126, Washington, DC 20593-7126 or at the National Archives and Records Administration (NARA). For information on the availability of this material at NARA, call 202-741-6030, or go to: http://www.archives.gov/federal_register/code_of_federal_regulations/ibr_locations.html. All material is available from the sources listed below.

(b) ASTM International, 100 Barr Harbor Drive, P.O. Box C700, West Conshohocken, PA 19428-2959, 877-909-2786, http://www.astm.org.

(1) ASTM B 117-97, Standard Practice for Operating Salt Spray (Fog) Apparatus, into § 160.077-11.

(2) ASTM D 751-95, Standard Test Methods for Coated Fabrics, incorporation by reference approved for § 160.077-19.

(3) ASTM D1434-82 (Reapproved 2009) ε1, Standard Test Method for Determining Gas Permeability Characteristics of Plastic Film and Sheeting (approved May 1, 2009), incorporation by reference approved for § 160.077-19.

(c) DLA Document Services, 700 Robbins Avenue, Building 4/D, Philadelphia, PA 19111-5094, 215-697-6396, http://assistdocs.com.

(1) In Federal Test Method Standard No. 191 the following test methods:

(i) Method 5100, Strength and Elongation, Breaking of Woven Cloth; Grab Method.

(ii) Method 5132, Strength of Cloth, Tearing; Falling-Pendulum Method.

(iii) Method 5134, Strength of Cloth, Tearing; Tongue Method.

(iv) Method 5804.1, Weathering Resistance of Cloth; Accelerated Weathering Method.

(v) Method 5762, Mildew Resistance of Textile Materials; Soil Burial Method.

(2) Federal Standard No. 751, Stitches, Seams, and Stitching.

(3) MIL-L-24611(SH), Life Preserver Support Package for Life Preserver, MK 4.

(d) National Institute of Standards and Technology (NIST) (formerly National Bureau of Standards), 100 Bureau Drive, Stop 1070, Gaithersburg, MD 20899-1070, 301-975-6478, http://www.nist.gov.

(1) “The Universal Color Language” and “The Color Names Dictionary” in Color: Universal Language and Dictionary of Names, National Institute of Standards Special Publication 440.

(2) [Reserved.]

(e) Underwriters Laboratories Inc. (UL), 12 Laboratory Drive, Research Triangle Park, NC 27709-3995, 919-549-1400, http://www.ul.com.

(1) UL 1191, Components for Personal Flotation Devices.

(2) UL 1517, Standard for Hybrid Personal Flotation Devices (November 12, 1984), incorporation by reference approved for 46 CFR 160.077-5(e)(2); 160.077-11(a)(5)(ii) and(g)(1); 160.077-15(b)(12); 160.077-17(b)(9); 160.077-19(a)(5) and (b)(1) through (18); 160.077-21(c)(1) through (5); 160.077-23(h)(4) through (7); 160.077-27(e)(1) and (4); and 160.077-29(c)(5), (7), and (9), and (d)(1) and (5).

29. Revise § 160.176-4 to read as follows:

§ 160.176-4 Incorporation by reference.

(a) Certain material is incorporated by reference into this part with the approval of the Director of the Federal Register in accordance with 5 U.S.C. 552(a). To enforce any edition other than that specified in paragraph (b) of this section, the Coast Guard must publish a notice of change in the Federal Register and make the material available to the public. All approved material is on file at the U.S. Coast Guard, Office of Design and Engineering Standards (CG-ENG), 2100 2nd Street SW., Stop 7126, Washington, DC 20593-7126 or at the National Archives and Records Administration (NARA). For information on the availability of this material at NARA, call 202-741-6030, or go to: http://www.archives.gov/federal_register/code_of_federal_regulations/ibr_locations.html. All material is available from the sources listed below.

(b) ASTM International, 100 Barr Harbor Drive, P.O. Box C700, West Conshohocken, PA 19428-2959, 877-909-2786, http://www.astm.org.

(1) ASTM B 117-97, Standard Practice for Operating Salt Spray (Fog) Apparatus, incorporation by reference approved for §§ 160.176-8; 160.176-13.

(2) ASTM D 751-95, Standard Test Methods for Coated Fabrics, incorporation by reference approved for § 160.176-13.

(3) ASTM D 975-98, Standard Specification for Diesel Fuel Oils, incorporation by reference approved for § 160.176-13.

(4) ASTM D1434-82 (Reapproved 2009)ε1, Standard Test Method for Determining Gas Permeability Characteristics of Plastic Film and Sheeting—(approved May 1, 2009), incorporation by reference approved for § 160.176-13.

(c) Federal Aviation Administration, Aircraft Certification Service, 800 Independence Avenue SW., Washington, DC 20591, 202-385-6346, http://www.faa.gov/aircraft/air_cert/design approvals/tso.

(1) TSO-C13d, Federal Aviation Administration Standard for Life Preservers, January 3, 1983, incorporation by reference approved for § 160.176-8.

(2) [Reserved]

(d) DLA Document Services, 700 Robbins Avenue, Building 4/D, Philadelphia, PA 19111-5094, 215-697-6396, http://www.asistdocs.com.

(1) In Federal Test Method Standard No. 191A (dated July 20, 1978) the following methods:

(i) Method 5100, Strength and Elongation, Breaking of Woven Cloth; Grab Method, incorporation by reference approved for § 160.176-13.

(ii) Method 5132, Strength of Cloth, Tearing; Falling-Pendulum Method, incorporation by reference approved for § 160.176-13.

(iii) Method 5134, Strength of Cloth, Tearing; Tongue Method, incorporation by reference approved for § 160.176-13.

(iv) Method 5804.1, Weathering Resistance of Cloth; Accelerated Weathering Method, incorporation by reference approved for § 160.176-8.

(v) Method 5762, Mildew Resistance of Textile Materials; Soil Burial Method, incorporation by reference approved for § 160.176-8.

(2) Federal Standard No. 751a, Stitches, Seams, and Stitching, January 25, 1965, incorporation by reference

(3) MIL-L-24611—Life Preserver Support Package For Life Preserver, MK 4, dated May 18, 1982, incorporation by reference approved for § 160.176-8.

(e) National Institute of Standards and Technology (NIST) (formerly National Bureau of Standards), c/o Superintendent of Documents, U.S. Government Printing Office, Washington, DC 20402, 202.512.1800, http://www.gpo.gov.

(1) Special Pub. 440, Color: Universal Language and Dictionary of Names; “The Universal Color Language” and “The Color Names Dictionary”, 1976, incorporation by reference approved for § 160.176-9.

(2) [Reserved]

(f) Underwriters Laboratories Inc. (UL), 12 Laboratory Drive, Research Triangle Park, NC 27709-3995, 919-549-1400, http://www.ul.com.

(1) UL 1191, “Components for Personal Flotation Devices”, November 11, 1984, incorporation by reference approved for §§ 160.176-8; 160.176-13.

(2) [Reserved]

PART 162—ENGINEERING EQUIPMENT

30. The authority citation for part 162 continues to read as follows:

Authority: 33 U.S.C. 1321(j), 1903; 46 U.S.C. 3306, 3703, 4104, 4302; E.O. 12234, 45 FR 58801, 3 CFR, 1980 Comp., p. 277; E.O. 12777, 56 FR 54757, 3 CFR, 1991 Comp., p. 351; Department of Homeland Security Delegation No. 0170.1.

31. In § 162.027-1, revise paragraph (b) to read as follows:

§ 162.027-1 Incorporation by reference.

* * * * *

(b) ASTM International, 100 Barr Harbor Drive, P.O. Box C700, West Conshohocken, PA 19428-2959, 877-909-2786, http://www.astm.org.

(1) ASTM F1546/F1546 M-96 (Reapproved 2012), Standard Specification for Fire Hose Nozzles (ASTM F 1546) (approved May 1, 2012), incorporation by reference approved for §§ 162.027-2; 162.027-3.

(2) [Reserved]

PART 193—FIRE PROTECTION EQUIPMENT

32. The authority citation for part 193 continues to read as follows:

Authority: 46 U.S.C. 2213, 3102, 3306; E.O. 12234, 45 FR 58801, 3 CFR, 1980 Comp., p. 277; Department of Homeland Security Delegation No. 0170.1.

33. In § 193.01-3, revise paragraph (b) introductory text and paragraph (b)(1) to read as follows:

§ 193.01-3 Incorporation by reference.

* * * * *

(b) ASTM International, 100 Barr Harbor Drive, P.O. Box C700, West Conshohocken, PA 19428-2959, 877-909-2786, http://www.astm.org.

(1) ASTM F1121-87 (Reapproved 2010), Standard Specification for International Shore Connections for Marine Fire Applications, (approved March 1, 2010), incorporation by reference approved for § 193.10-10.

* * * * *

Dated: February 11, 2013.
Kathryn A. Sinniger,
Chief, Office of Regulations and Administrative Law U.S. Coast Guard.

[FR Doc. 2013-03724 Filed 2-26-13; 8:45 am]

BILLING CODE 9110-04-P